DEPARTMENT OF COMMERCE

National Oceanic and Atmospheric Administration

50 CFR Part 660

[Docket No. 220510-0113]

RTID 0648-XC429

Fisheries Off West Coast States; Modification of the West Coast Salmon Fisheries; Inseason Actions #46 Through #47

AGENCY: National Marine Fisheries Service (NMFS), National Oceanic and Atmospheric Administration (NOAA), Commerce.

ACTION: Inseason modification of 2022 management measures.

SUMMARY: NMFS announces two inseason actions in the 2022 ocean salmon fisheries. These inseason actions modify the recreational and commercial salmon fisheries in the area from the United States (U.S.)/Canada border to Cape Falcon, OR.

DATES: The effective dates for the inseason actions are set out in this document under the heading Inseason Actions and the actions remain in effect until superseded or modified.

FOR FURTHER INFORMATION CONTACT: Shannon Penna at 562-980-4239, Email: Shannon.Penna@noaa.gov.

SUPPLEMENTARY INFORMATION:

Background

The 2022 annual management measures for ocean salmon fisheries (87 FR 29690, May 16, 2022) announced management measures for the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial and recreational salmon fisheries, as set out under the heading Inseason Actions below.

Consultations with the Council Chairperson on these inseason actions occurred on September 13, 2022. Representatives from NMFS, Washington Department of Fish and Wildlife (WDFW), Oregon Department of Fish and Wildlife (ODFW), and Council staff participated in these consultations. The Salmon Advisory Subpanel and Salmon Technical Team (STT) were also on the calls.

These inseason actions were announced on NMFS' telephone hotline and U.S. Coast Guard radio broadcast on the date of the consultations (50 CFR 660.411(a)(2)).

Inseason Actions

Inseason Action #46

Description of the action: Inseason action #46 modifies the NOF recreational salmon fishery. To cover an overage in the Columbia River subarea guideline, 600 Chinook salmon from the U.S./Canada border to Cape Alava, Washington (Neah Bay subarea) guideline is transferred to the Leadbetter Point to Cape Falcon, Oregon (Columbia River subarea), on an impact-neutral basis, which adds 390 Chinook salmon to the Columbia River subarea guideline. The adjusted Chinook salmon subarea guidelines are 5,510 for the Neah Bay subarea, and 8,090 for the Columbia River subarea. The adjusted overall north of Falcon recreational fishery Chinook salmon quota is 26,790.

Effective date: Inseason action #46 took effect on September 14, 2022, at 12:01 a.m. and remains in effect until the end of the commercial salmon season on September 30, 2022, at 11:59 p.m.

Reason and authorization for the action: Provisions for this type of inseason impact-neutral transfer of uncaught quota is specified in the 2022 ocean salmon regulations (87 FR 29690, May 16, 2022). The action was necessary to cover an overage of 253 Chinook salmon in the Columbia River subarea recreational fishery so that impacts of the fishery were consistent with preseason expectations and conservation objectives for salmon stocks managed under the jurisdiction of the Council, and to preserve season length which provides economic benefits to fishery-dependent communities.

The West Coast Regional Administrator (RA) considered the landings of Chinook salmon to date and projected catch, fishery effort occurring to date and projected effort, and quotas set preseason and determined that this inseason action was necessary to meet management goals set preseason and address the overage in the Columbia River subarea Chinook salmon catch. Modification of quotas and/or fishing seasons is authorized by 50 CFR 660.409(b)(1)(i).

Inseason Action #47

Description of the action: Inseason action #47 modifies the commercial salmon troll fishery NOF landing and possession limits of 15 Chinook salmon and 225 coho salmon per vessel per landing week (Thursday through Wednesday).

Effective date: Inseason action #47 took effect on September 15, 2022, at 12:01 a.m. and remains in effect until superseded.

Reason and authorization for the action: Inseason action #47 was necessary to provide access to the available Chinook and coho salmon quota without exceeding the Chinook salmon guideline. The RA considered the landings of Chinook and coho salmon to date and projected catch, fishery effort occurring to date and projected effort, and quotas set preseason and determined that this inseason action was necessary to provide greater fishing opportunity and provide economic benefit to the fishery-dependent community while remaining consistent with conservation objectives for coho and Chinook salmon stocks managed under the Council jurisdiction. The modification of commercial landing and possession limits is authorized by 50 CFR 660.409(b)(1)(i).

All other restrictions and regulations remain in effect as announced for the 2022 ocean salmon fisheries (87 FR 29690, May 16, 2022), as modified by previous inseason action (87 FR 41260, July 12, 2022; 87 FR 49534, August 11, 2022; 87 FR 52353, August 25, 2022; 87 FR 54171, September 2, 2022; 87 FR 60105, October 4, 2022).

The RA determined that these inseason actions were warranted based on the best available information on Pacific salmon abundance forecasts, landings to date, anticipated fishery effort and projected catch, and the other factors and considerations set forth in 50 CFR 660.409. The states and tribes manage the fisheries in state waters adjacent to the areas of the U.S. exclusive economic zone (3-200 nautical miles; 5.6-370.4 kilometers) off the coasts of the states of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690, May 16, 2022), the Pacific Salmon Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: October 31, 2022.
Kelly Denit,
Director, Office of Sustainable Fisheries, National Marine Fisheries Service.

[FR Doc. 2022-23984 Filed 11-3-22; 8:45 am]

BILLING CODE 3510-22-P